DEPARTMENT OF COMMERCE

Foreign-Trade Zones Board

[S-64-2024]

Approval of Subzone Expansion; Swagelok Company; Cleveland, Ohio

On April 5, 2024, the Executive Secretary of the Foreign-Trade Zones (FTZ) Board docketed an application submitted by the Cleveland Cuyahoga County Port Authority, grantee of FTZ 40, requesting expansion of Subzone 40I subject to the existing activation limit of FTZ 40, on behalf of Swagelok Company, in Wickliffe, Ohio.

The application was processed in accordance with the FTZ Act and Regulations, including notice in the Federal Register inviting public comment (89 FR 25232, April 10, 2024). The FTZ staff examiner reviewed the application and determined that it meets the criteria for approval. Pursuant to the authority delegated to the FTZ Board Executive Secretary (15 CFR 400.36(f)), the application to expand Subzone 40I to include a new site located at 1400 Worden Road, in Wickliffe (Site 13) was approved on May 23, 2024, subject to the FTZ Act and the Board's regulations, including section 400.13, and further subject to FTZ 40's 2,000—acre activation limit.

Dated: May 23, 2024.
Elizabeth Whiteman,
Executive Secretary.

[FR Doc. 2024-11833 Filed 5-29-24; 8:45 am]

BILLING CODE 3510-DS-P